DEPARTMENT OF COMMERCE

National Oceanic and Atmospheric Administration

[RTID 0648-XA809]

Mid-Atlantic Fishery Management Council (MAFMC); Public Meetings

AGENCY: National Marine Fisheries Service (NMFS), National Oceanic and Atmospheric Administration (NOAA), Commerce.

ACTION: Notice of public meetings.

SUMMARY: The Mid-Atlantic Fishery Management Council (Council) and the Atlantic States Marine Fisheries Commission (ASMFC) will hold a joint public meeting.

DATES: The joint meeting of the Council and ASMFC will take on Monday, February 1, 2021, from 10:30 a.m. to 4:30 p.m. For agenda details, see SUPPLEMENTARY INFORMATION.

ADDRESSES: Due to public health concerns related to the spread of COVID-19 (coronavirus), this meeting will be conducted by webinar only. Webinar instructions and additional meeting details will be posted on the Council's website at https://www.mafmc.org/meetings.

Council address: Mid-Atlantic Fishery Management Council, 800 N. State St., Suite 201, Dover, DE 19901; telephone: (302) 674-2331.

FOR FURTHER INFORMATION CONTACT: Christopher M. Moore, Ph.D. Executive Director, Mid-Atlantic Fishery Management Council; telephone: (302) 526-5255. The Council's website (www.mafmc.org) also has details on the meeting agenda, webinar connection instructions, and briefing materials.

SUPPLEMENTARY INFORMATION: The following items are on the agenda, though agenda items may be addressed out of order (changes will be noted on the Council's website when possible.)

Monday, February 1, 2021

Recreational Management Reform Initiative

Review and discuss next steps, timeline, and process.

Black Sea Bass Commercial State Allocation Amendment and Draft Addendum XXXIII

Review and consider for final action.

Although non-emergency issues not contained in this agenda may come before this group for discussion, in accordance with the Magnuson-Stevens Fishery Conservation and Management Act (Magnuson-Stevens Act), those issues may not be the subject of formal action during this meeting. Actions will be restricted to those issues specifically identified in this notice and any issues arising after publication of this notice that require emergency action under Section 305(c) of the Magnuson-Stevens Act, provided the public has been notified of the Council's intent to take final action to address the emergency.

Special Accommodations

The meeting is physically accessible to people with disabilities. Requests for sign language interpretation or other auxiliary aid should be directed to Kathy Collins, (302) 526-5253, at least 5 days prior to the meeting date.

Authority: 16 U.S.C. 1801 et seq.

Dated: January 11, 2021.
Rey Israel Marquez,
Acting Deputy Director Office of Sustainable Fisheries, National Marine Fisheries Service.

[FR Doc. 2021-00722 Filed 1-13-21; 8:45 am]

BILLING CODE 3510-22-P